DEPARTMENT OF LABOR

Agency Information Collection Activities; Submission for OMB Review; Comment Request; Training Plans, New Miner Training, Newly-Hired Experienced Miner Training

ACTION: Notice of availability; request for comments.

SUMMARY: The Department of Labor (DOL) is submitting this Mine Safety and Health Administration (MSHA)-sponsored information collection request (ICR) to the Office of Management and Budget (OMB) for review and approval in accordance with the Paperwork Reduction Act of 1995 (PRA). Public comments on the ICR are invited.

DATES: The OMB will consider all written comments that the agency receives on or before June 20, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Howell by telephone at 202-693-6782, or by email at DOL_PRA_PUBLIC@dol.gov.

SUPPLEMENTARY INFORMATION: Training informs miners of safety and health hazards inherent in the workplace and enables them to identify and avoid such hazards. Training becomes even more important in light of certain conditions that can exist when production demands increase, such as: an influx of new and less experienced miners and mine operators; longer work hours to meet production demands; and increased demand for contractors who may be less familiar with the dangers on mine property.

In addition, with respect to miner health and safety training, Section 115(c) of the Mine Act, 30 U.S.C. 825(c) provides that, upon completion of each training each operator shall certify that the miner has received the specified training in each subject area of the approved health and safety training plan (this information requirement is covered in control number 1205-0009); paragraphs (d) and (e) address the Secretary of Labor's rulemaking authority with respect to miner training.

MSHA's objective in these existing health and safety training requirements is to ensure that all miners receive the required training, which would result in a decrease in accidents, injuries, and fatalities. MSHA enforces training requirements at approximately 11,657 surface nonmetal mines and contractors. For additional substantive information about this ICR, see the related notice published in the Federal Register on November 12, 2024 (89 FR 89045).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

Agency: DOL-MSHA.

Title of Collection: Training Plans, New Miner Training, Newly-hired Experienced Miner Training.

OMB Control Number: 1219-0131.

Affected Public: Private Sector.

Number of Respondents: 10,872.

Number of Responses: 2,275,623.

Annual Burden Hours: 157,458 hours.

Total Estimated Annual Other Costs Burden: $351,967.

(Authority: 44 U.S.C. 3507(a)(1)(D))

Michael Howell,
Senior Paperwork Reduction Act Analyst.

[FR Doc. 2025-08938 Filed 5-19-25; 8:45 am]

BILLING CODE 4510-43-P